DEPARTMENT OF DEFENSE

Department of the Army

[Docket ID: USA-2009-0026]

Privacy Act of 1974; System of Records

AGENCY: Department of the Army, DoD.

ACTION: Notice to alter a system of records.

SUMMARY: The Department of the Army is proposing to alter a system of records in its existing inventory of records systems subject to the Privacy Act of 1974, (5 U.S.C. 552a), as amended.

DATES: The proposed action will be effective on October 22, 2009 unless comments are received that would result in a contrary determination.

ADDRESSES: Department of the Army, Privacy Office, U.S. Army Records Management and Declassification Agency, 7701 Telegraph Road, Casey Building, Suite 144, Alexandria, VA 22325-3905.

FOR FURTHER INFORMATION CONTACT: Mr. Leroy Jones, (703) 428-6185.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on September 4, 2009, to the House Committee on Oversight and Government Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

Dated: September 11, 2009.
Patricia L. Toppings,
OSD Federal Register Liaison Officer, Department of Defense.

A0025-2 SAIS DoD

SYSTEM NAME:

Defense Biometric Services (April 6, 2009, 74 FR 15466)

CHANGES:

* * * * *

PURPOSE(S):

Delete entry and replace with “To enhance identity management of DoD persons and streamline business functions through a biometric database and associated data processing/information service for designated populations.

The following functions are the key processes supported by this system:

To support DoD personnel, physical and logical security, and identity management by identifying or verifying an individual through the use of biometric databases and associated data processing/information services for designated populations for purposes of protecting U.S./Coalition/allied government/national security areas of responsibility and information.

To provide personnel identification and verification capabilities during disaster scenarios or other catastrophic events.

To enhance or streamline DoD functions that benefit from available biometric information for identification or verification of personnel.”

* * * * *

RETRIEVABILITY:

Delete entry and replace with “Name, Social Security Number (SSN), biometric template, fingerprints, face, iris, or other unique identifiers.”

* * * * *

A0025-2 SAIS DoD

SYSTEM NAME:

Defense Biometric Services

SYSTEM LOCATION:

Director, Biometrics Task Force, 347 West Main Street, Clarksburg, West Virginia 26306-2947.

CATEGORIES OF INDIVIDUALS COVERED BY THE SYSTEM:

Individuals covered include, but are not limited to, members of the U.S. Armed Forces, DoD civilian and contractor personnel, military reserve personnel, Army and Air National Guard personnel, foreign national partners, and other individuals (who are U.S. citizens or aliens lawfully admitted for permanent residence) requiring or requesting employment by DoD and/or access to DoD or DoD controlled information systems and/or DoD or DoD contractor operated or controlled installations and facilities.

CATEGORIES OF RECORDS IN THE SYSTEM:

Biometrics images; biometric templates; supporting documents; identifying biographic information including, but not limited to, name, Social Security Number (SSN), date of birth, place of birth, height, weight, eye color, hair color, race, globally unique identifier, organization, telephone number, office symbol, clearance, gender, and similar relevant information; and information from and electronic images of international, Federal, tribal, or State issued individual identity documents.

AUTHORITY FOR MAINTENANCE OF THE SYSTEM:

10 U.S.C. 113, Secretary of Defense; 10 U.S.C. 3013, Secretary of the Army; 10 U.S.C. 5013, Secretary of the Navy; 10 U.S.C. 8013, Secretary of the Air Force; E.O. 12333, United States Intelligence Activities; E.O. 13467, Reforming Processes Related to Suitability for Government Employment, Fitness for Contractor Employees, and Eligibility for Access to Classified National Security Information; National Defense Authorization Act of 2008, Section 1069; DoDD 8521.01E, Department of Defense Biometrics; DoDD 8500.1, Information Assurance; AR 25-2, Information Assurance and E.O. 9397 (SSN), as amended.

PURPOSE(S):

To enhance identity management of DoD persons and streamline business functions through a biometric database and associated data processing/information service for designated populations.

The following functions are the key processes supported by this system:

To support DoD personnel, physical and logical security, and identity management by identifying or verifying an individual through the use of biometric databases and associated data processing/information services for designated populations for purposes of protecting U.S./Coalition/allied government/national security areas of responsibility and information.

To provide personnel identification and verification capabilities during disaster scenarios or other catastrophic events.

To enhance or streamline DoD functions that benefit from available biometric information for identification or verification of personnel.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

To Federal, State, tribal, local, or foreign agencies, for the purposes of law enforcement, counterterrorism, immigration management and control, and homeland security as authorized by U.S. Law or Executive Order, or for the purpose of protecting the territory, people, and interests of the United States of America against breaches of security related to DoD controlled information or facilities, and against terrorist activities.

The DoD “Blanket Routine Uses” set forth at the beginning of the Army's compilation of systems of records notices also apply to this system.

POLICIES AND PRACTICES FOR STORING, RETRIEVING, ACCESSING, RETAINING, AND DISPOSING OF RECORDS IN THE SYSTEM:

STORAGE:

Paper records in file folders and electronic storage media.

RETRIEVABILITY:

Name, Social Security Number (SSN), biometric template, fingerprints, face, iris, or other unique identifiers.

SAFEGUARDS:

Computerized records maintained in a controlled area are accessible only to authorized personnel. Records are maintained in a controlled facility. Physical entry is restricted by the use of locks, guards, and is accessible only to authorized personnel. Physical and electronic access is restricted to designated individuals having a need therefor in the performance of official duties and who are properly screened and cleared for need-to-know.

RETENTION AND DISPOSAL:

Data is destroyed when superseded or when no longer needed for operational purposes, whichever is later by shredding, pulping, degaussing or erasing.

SYSTEM MANAGER(S) AND ADDRESS:

Director, Biometrics Task Force, 1901 South Bell Street, Suite 900, Arlington, Virginia 22202-4512.

NOTIFICATION PROCEDURE:

Individuals seeking to determine whether information about themselves is contained in this system should address written inquiries to Director, Biometrics Task Force, 1901 South Bell Street, Suite 900, Arlington, Virginia 22202-4512.

For verification purposes, individual should provide full name, Social Security Number (SSN), sufficient details to permit locating pertinent records, and signature.

RECORD ACCESS PROCEDURES:

Individuals seeking access to information about themselves contained in this system should address written inquiries to Director, Biometrics Task Force, 1901 South Bell Street, Suite 900, Arlington, Virginia 22202-4512.

For verification purposes, individual should provide full name, Social Security Number (SSN), sufficient details to permit locating pertinent records, and signature.

CONTESTING RECORD PROCEDURES:

The Army's rules for accessing records, and for contesting contents and appealing initial agency determinations are contained in Army Regulation 340-21; 32 CFR part 505; or may be obtained from the system manager.

RECORD SOURCE CATEGORIES:

From the individual, DoD security offices, system managers, computer facility managers, automated interfaces for user codes on file at Department of Defense sites.

EXEMPTIONS CLAIMED FOR THE SYSTEM:

None.

[FR Doc. E9-22788 Filed 9-21-09; 8:45 am]

BILLING CODE 5001-06-P